DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Suite 4100W, Franklin Court Building, U.S. Department of Commerce, 1099 14th Street, NW., Washington, DC.

Docket Number: 01-017.

Applicant: University of Connecticut, Department of Metallurgy and Materials Engineering, 97 North Eaglesville Road, Storrs, CT 06269-3136.

Instrument: Electron Microscope, Model JEM-2010.

Manufacturer: JEOL Ltd., Japan.

Intended Use: The instrument is intended to be used to study the microstructure of a wide range of materials including metals, alloys, ceramics, composites, rocks, ferroelectrics, semiconductors, high-temperature superconductors, mesoporous materials and catalysts. Experiments to be conducted are as follows:

(1) Interfacial Structure and Processes in Engineering Alloys.

(2) Mineral Reactions and Textural Evolution in Silicate Rocks.

(3) Microstructural Evolution in Tough Ceramics.

(4) EELS/ESI as a Probe of Magnetic Structure in Alloys.

(5) Synthesis and Characterization of Inorganic Helices.

In addition, the instrument will be used in the courses MMAT322 Materials Characterization and MMAT323 Transmission Electron Microscopy.

Application accepted by Commissioner of Customs: September 5, 2001.

Docket Number: 01-018.

Applicant: Federal Highway Administration, Turner-Fairbank Highway Research Center. HRDI-10, 6300 Georgetown Pike, McLean, VA 22101-2296.

Instrument: Automated Ultrasonic Inspection System, Model P-scan 4 Lite.

Manufacturer: Force Institute, Denmark.

Intended Use: The instrument is intended to be used to detect cracks, slag inclusions, porosity, and other defects in butt-welded steel girders. Field testing of the instrument on under-construction bridge girders will be conducted to determine the effect of environment and human factors on system performance.

Application accepted by Commissioner of Customs: September 5, 2001.

Docket Number: 01-019.

Applicant: University of California, Ernest Orlando Lawrence Berkeley National Laboratory, One Cyclotron Road, Mail Stop 937-200, Berkeley, CA 94720.

Instrument: Electron Microscope (used), Model CM200 FEG.

Manufacturer: FEI Company, The Netherlands.

Intended Use: The instrument is intended to be used to understand the structural architecture of biological complexes that makes them cellular units of function, and the structural bases for the regulation of such complexes. Also, application of cryo-electron microscopy and image analysis to the structural characterization of microtubules, a highly dynamic self-assembly system regulated by the nucleotide state of its structural unit, the ab-tubulin heterodimer, and their interaction with cellular factors and antimitotic ligands. In addition, investigation of the structural bases of transcription initiation and regulation by characterizing the structures of the eukaryotic, general transcriptional machinery and its interaction with DNA, activators and large cofactor complexes. These studies are being extended to the structural characterization of the molecular machinery involved in transcription-coupled DNA repair.

Application accepted by Commissioner of Customs: September 19, 2001.

Docket Number: 01-020.

Applicant: Massachusetts Institute of Technology, 77 Massachusetts Avenue, Room 8-309, Cambridge, MA 02139.

Instrument: Impact Module for Nano Indentor.

Manufacturer: Micro Materials Ltd., United Kingdom.

Intended Use: The instrument is intended to be used for studies of the mechanical properties such as strength and stiffness of industrial metals—aluminum, various steels, ceramics and super alloys. In addition, the instrument will be used to illustrate state of the art testing procedures of advanced materials on the undergraduate and graduate levels in the course Mechanical Behavior of Materials.

Application accepted by Commissioner of Customs: October 1, 2001.

Docket Number: 01-021.

Applicant: Baylor College of Medicine, One Baylor Plaza, Houston, TX 77030.

Instrument: Electron Microscope, Model JEM-2010F and Accessories.

Manufacturer: JEOL Ltd., Japan.

Intended Use: The instrument is intended to be used to study proteins, viruses, protein-nucleic acid complexes and membrane receptors, which are involved in a variety of biological processes in viral morphogenesis, signal transduction, ion and molecular transport and catalysis. The experiments to be conducted include direct imaging with the specimen embedded in vitreous ice and kept at a liquid nitrogen temperature (−170C) during the microscopic observations.

Application accepted by Commissioner of Customs: October 10, 2001.

Gerald A. Zerdy,
Program Manager, Statutory Import Programs Staff.

[FR Doc. 01-27732 Filed 11-2-01; 8:45 am]

BILLING CODE 3510-DS-P